NATIONAL SCIENCE FOUNDATION

Notice of Permit Applications Received Under the Antarctic Conservation Act of 1978 (P.L. 95-541)

AGENCY: National Science Foundation.

ACTION: Notice of permit applications received under the Antarctic Conservation Act of 1978, P.L. 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to these permit applications by September 28, 2000. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas requiring special protection. The regulations establish such a permit system to designate Specially Protected Areas and Sites of Special Scientific Interest.

The applications received are as follows:

1. Applicant

Wayne Z. Trivelpiece, P.O. Box 271, La Jolla, CA 92038

[Permit Application No. 2001-011]

Activity for Which Permit is Requested: Take, Enter Antarctic Specially Protected Area, and Import into the U.S. The applicant plans to enter his study site at the Western Shore of Admiralty Bay (ASPA #128) to continue a study of the behavioral ecology and population biology of the Adelie, Gentoo, and chinstrap penguins and the interaction among these species and their principal avian predators: skuas, gulls, sheathbills, and giant petrels. The applicant plans to band 500 each of Adelie and Gentoo penguin chicks, plus adults of all three penguin species, as needed (not greater than 150 adults per species). As part of a continuing study of the penguins' foraging habits, approximately 50 adult penguins per species will be handled to attach radio-transmitters (Txs), satellite tags (PTTs), and time-depth recorders (TDRs). The study also involves stomach pumping a maximum of 40 adult penguins per species, as well as collecting data on egg sizes and adult weights for a maximum of 100 nests per species. The principal avian predators of the penguins will be banded as well. Furthermore, 2 milliliter blood samples may need to be collected from a maximum of 20 breeding adults of each species for contaminant analysis as part of a collaborative effort with the Italian Antarctic Program. All birds will be released on-site after capture and handling.

Location: ASP 128—Western Shore of Admiralty Bay, King George Island.

Dates: October 1, 2000 to April 1, 2001.

2. Applicant

Mahlon C. Kennicutt, II, Geochemical and Environmental Research Group, Texas A&M University, 833 Graham Road, College Station, TX 77845

[Permit Application No. 2001-012]

Activity for Which Permit Is Requested: Take, Enter Antarctic Specially Protected Area, and Import into the U.S. The applicant plans to enter six sites, three of which are Antarctic Specially Protected Areas, to use as potential control areas for a study of the temporal and spatial scales of various types of disturbances in and around McMurdo Station. An initial helicopter reconnaissance mission will help determine which sites meet the sampling requirements. Samples of soil and permafrost measurement could help determines the impact of particulate and/or aerosols from McMurdo Station.

Location: ASPA #116—“New College Valley”, Caughley Beach, Cape Bird, Ross Island; ASPA #121—Cape Royds, Ross Island; and, ASPA #137—Northwest White Island, McMurdo Sound.

Dates: November 11, 2000 to December 31, 2002.

3. Applicant

Brenda Hall, 311 Bryand G.S.C., University of Maine, Orono, Maine 04469

[Permit Application No. 2001-013]

Activity for Which Permit Is Requested: Enter Antarctic Specially Protected Areas. The applicant proposes to enter several Antarctic Specially Protected Areas in the Antarctic Peninsula to examine the glacial geology and raised beaches of the South Shetland Islands in order to gain a better understanding of the climate and glacial history of the area. The work involves examining the stratigraphy of glacial and beach deposits, looking for striations, and collecting ancient organic material for radiocarbon dating. Small (<1 m²) pits will be dug in the sediments to look at the internal structure of the soil and to collect samples for later grain-size analysis and radiocarbon dating. The pits will be refilled and the surface will be returned to its near natural condition. The applicant also plans to map the different landforms, survey elevations of beaches, and collect a few small (50 mm diameter) cores from shallow ponds to examine the climate record and to obtain a minimum age for deglaciation of the islands. Access to the sites will be by either zodiac or on foot.

Location: ASPA #125—Fildes Peninsula, King George Island; ASPA #126—Byers Peninsula, Livingston Island; ASPA #132—Potter Peninsula, King George Island; ASPA #149—Cape Shirreff, Livingston Island; ASPA #150—Ardley Island, Maxwell Bay, King George Island; and, ASPA #151—Lions Rump, King George Island.

Dates: March 1, 2001-June 15, 2001.

4. Applicant

John T. Lisle, Lockheed Martin, Mail Stop C23, 2400 NASA Road One, Houston, TX 77058

[Permit Application No. 2001-014]

Activity for Which Permit Is Requested: Introduce Non-indigenous Species into Antarctica. The applicant plans to take bacterial cultures (1 ml vials each of Escherichia coli, Enterobacter aerogenes, Pseudomonas aeruginosa, Clostridiudm perfringens, Salmonella typhimurium, Staphylococcus aureus, Acinetobacter calcoaceticus, Pseudomonas stutzeri, and Pseudomonas putida) that are either lyophilized or maintained on solid medium to Antarctica for use as positive and negative controls in microbiological assays to be performed in the Crary Science and Engineering Laboratory facility at McMurdo Station. These bacterial controls will be used in assays to assess the extent of fecal contamination in the waters and sediments off the coast of McMurdo Station. These controls are especially important since all the assays have been designed for use in more temperate waters. Without the controls, the data will be questionable in regard to applicability to Antarctic waters. All of the bacterial cultures will be contained in the lab and upon completion of the assays will be autoclaved and properly disposed.

Location: Crary Science and Engineering Laboratory, McMurdo Station, Ross.

Dates: October 1, 2000 to November 20, 2000.

5. Applicant

Robert A. Blanchette, 495 Borlaug Hall, 1991 Buford Circle, University of Minnesota, St. Paul, MN 55108-6030

[Permit Application No. 2001-015]

Activity for Which Permit Is Requested: Take; Enter Antarctic Specially Protected Areas. The applicant is cooperation with the New Zealand Antarctic Heritage Trust and researchers from the University of Waikato, New Zealand, plan to enter ASPA #154—Cape Evans Historic Site, ASPA #156—Hut and associated artifacts, Backdoor Bay, Cape Royds, and ASPA #157—Discovery Hut, Hut Point, Ross Island, to assess the deterioration taking place in the historic huts of the Ross Sea region. The applicant proposes to collect wood samples from hut foundations and exterior regions and collect samples from the wood test panels set up in 1999. In addition, soil samples will be collected from areas around the huts. The microbial diversity of the area will be determined by additional sampling at the historic hut locations as well as Cape Crozier and a Dry Valley site. Samples will be returned to the U.S. for further analysis.

Location: ASPA #154—Cape Evans Historic Site, ASAP #156—Hut and associated artificates, Backdoor Bay, Cape Royds, and ASPA #157—Discovery Hut, Hut Point, Ross Island.

Dates: December 4, 2000 to December 20, 2000.

6. Applicant

Thomas W. Yelvington, Raytheon Polar Services Company, 61 Inverness Drive East, Suite 300, Englewood, CO 80112

[Permit Application No. 2001-016]

Activity for Which Permit is Requested: Introduce Non-indigenous Species into Antarctica. The applicant plans to take a frozen reagent containing 4% Vibrio fischeri and 2% sodium chloride in water to Antarctica for use in a Microtox toxicity analyzer. The organism is used as a reagent in a commercially available toxity analyzer that measures changes in light emission in response to contaminates or naturally occurring toxicity in soil and water samples. Results of the analysis are used to determine the toxic content of the samples and thereby the remediation process required. The reagent will be used solely in the Crary Science and Engineering laboratory. The waste reagent and analyzed samples will be sterilized and disposed of according to their proper waste classification.

Location: Crary Science and Engineering Laboratory, McMurdo Station, Ross Island.

Dates: October 1, 2000 to October 1, 2005.

7. Applicant

Michael D. Riley, Moody Gardens, Inc., 1 Hope Boulevard, Galveston, TX 77554

[Permit Application No. 2001-017]

Activity for Which Permit is Requested: Take and Import into the U.S. The applicant plans to collect 100 eggs each of Adelie, Chinstrap and Gentoo penguins and return them to Moody Gardens (an accredited zoological facility) for incubation, hatching, rearing, and eventual display for educational and scientific research purposes. The egg collection will take place in the general area of King George Island, however, none of the Antarctic Specially Protected Areas will be entered. The applicant will coordinate collection activities with researchers in the area to insure established study sites are not disrupted. Collection of the eggs will be done by hand and only one egg per clutch will be taken. The eggs will be immediately placed in a portable incubator,and a 24 hour watch will ensure proper temperature is maintained. The incubators, with the collection team, will be flown from Antarctica to Punta Arenas, Chile then to the U.S.

Location: King George Island and vicinity, Antarctic Peninsula.

Dates: November 1, 2000 to 31 December 2001.

8. Applicant

Jerry L. Mullins, U.S. Geological Survey, MS 521, Reston, VA 20192

[Permit Application No. 2001-018]

Activity for Which Permit is Requested: Enter Antarctic Specially Protected Area. The applicant's GPS survey team plans to enter ASPA #116—“New College Valley”, Caughley Beach, Cape Bird, ASPA #121 Cape Royds, Ross Island and ASPA #124—Cape Crozier to establish geographical coordinates and elevations for preselected photoidentifiable points to meet national mapping accuracy standards for 1:25,000-scale mapping at these sites. In addition, a series of locations, including these three sites, will be occupied so the team can use a millimeter accuracy geodetic control to detect horizontal and vertical movement of solid rock sites in the McMurdo Dry Valley region of the Transantarctic Mountains over an extended period of time.

Location: ASPA #116—“New College Valley”, Caughley Beach, Cape Bird, ASPA #121 Cape Royds, Ross Island, ASPA #124—Cape Crozier and the McMurdo Sound vicinity.

Dates: October 1, 2000 to February 15, 2005.

9. Applicant

William Swanson, 16000 Elmo Lane, El Paso, TX 79923

[Permit Application No. 2001-019]

Activity for Which Permit is Requested: Take; Import into the U.S. The applicant is a participant in the Teachers Experiencing Antarctica (TEA) program and will be working with the Long Term Ecological Research (LTER) team at Palmer Station, Antarctica. The applicant proposes to salvage dead specimens (penguins, seabirds, and seals, etc.) and materials found in and around Palmer Station on an opportunistic basis. The collected specimens will be used in an educational outreach collection of the Palmer Station LTER for presentations to middle and high school students.

Location: Palmer Station, Anvers Island, and vicinity.

Dates: November 1, 2000 to December 31, 2000.

10. Applicant

Richard M. Jones; 1732 Broadview Drive, Billings, MT 59105

[Permit Application No. 2001-020]

Activity for Which Permit is Requested: Take; Import into the U.S. The applicant is a participant in the Teachers Experiencing Antarctica (TEA) program and will be working with a science group in the McMurdo Station vicinity. The applicant proposes to salvage dead specimens (penguins, seabirds, and seals, etc.) and materials found in and around McMurdo Station on an opportunistic basis. The collected specimens will be used in a display for use in classroom presentations and other educational outreach presentations to teachers and students.

Location: McMurdo Station, Ross Island, and McMurdo Sound vicinity.

Dates: November 20, 2000 to November 18, 2001.

11. Applicant

Thomas W. Yelvington, Raytheon Polar Services Company, 61 Inverness Drive East, Suite 300, Englewood, CO 80112

[Permit Application No. 2001-021]

Activity for Which Permit is Requested: Enter Antarctic Specially Protected Area. The applicant proposes to enter ASPA #106—Cape Hallett to conduct a complete visual inspection of the abandoned station and environs based on historical records and reports. Although several cleanup operations have taken place since the station closed, historical records and recent visits by scientific parties indicate a significant amount of debris and potential chemical release into the environment still exits at the site. Areas to know and suspected activities such as petroleum product storage and usage, solid waste, and chemical storage and disposal will be evaluated as to the potential for environmental impact. Areas that exhibit signs of petroleum or chemical contamination, such as free product, staining, odor, or proximity to storage areas will be evaluated and soil samples collected for analysis of likely pollutants. If time and conditions permit, debris may be collected and secured for future removal.

Location: Enter ASPA #106—Cape Hallett, Victoria Land.

Dates: October 1, 2000 to March 31, 2001.

Nadene G. Kennedy,
Permit Officer, Office of Polar Programs.

[FR Doc. 00-21955 Filed 8-28-00; 8:45 am]

BILLING CODE 7555-01-M